DEPARTMENT OF THE INTERIOR

Bureau of Land Management

[ID-340-08-1430-FR 241A, IDI-32610-01, IDI-32611-01, and IDI-33660-01]

Notice of Realty Action: Recreation and Public Purposes (R&PP) Act Classification of Public Lands for Conveyance to Lemhi County, ID

AGENCY: Bureau of Land Management, Interior.

ACTION: Notice of Realty Action.

SUMMARY: The Bureau of Land Management (BLM) has examined three parcels of public land, approximately 49.79 acres in Lemhi County, Idaho and has determined them to be suitable for classification for conveyance to Lemhi County Commission under the provisions of the Recreation and Public Purposes (R&PP) Act (43 U.S.C. 869, et seq.), as amended.

DATES: Comments regarding the proposed conveyance will be accepted until April 17, 2008.

ADDRESSES: Address all written comments concerning this Notice to Steven Hartmann, BLM Salmon Field Manager, 1206 South Challis Street, Idaho 83467.

FOR FURTHER INFORMATION CONTACT: Gloria Jakovac, Realty Specialist, at the above address or (208) 756-5421.

SUPPLEMENTARY INFORMATION: The following described public land in Lemhi County, Idaho, has been examined and found suitable for conveyance to the Lemhi County Commission under the provisions of the Recreation and Public Purposes Act, as amended (43 U.S.C. 869 et seq.):

Boise Meridian, Idaho

T.15 N., R. 22 E.,

Section 32, lot 2.

T. 21 N., R. 22 E.,

Section 28, S½SE¼SE¼;

Section 33, NE¼NE¼NE¼, N½NW¼NE¼NE¼, SE¼NW¼NE¼NE¼.

T. 21 N., R. 23 E.,

Section 34, lot 7.

The land described above contains approximately 49.79 acres in Lemhi County. The Lemhi County Commission proposes to continue the existing use of the parcels to meet the public needs of the Salmon area. Two of the parcels identified above have been used by Lemhi County since 1994 for the purposes of satellite dumpster sites to gather residential refuse and then transfer it to the Lemhi County Landfill located near Salmon, Idaho. The third site is authorized to Lemhi County for the purposes of a public rifle range and has been used for such purposes since 1993. All three sites were constructed and are maintained by Lemhi County or their assigned community board. All three parcels located in Lemhi County, Idaho have been examined and found suitable for classification for conveyance under the provisions of the R&PP Act, as amended (43 U.S.C. 869 et seq.) and is hereby classified accordingly. It has been determined that conveyance of the three parcels to Lemhi County for recreational and public purposes use is consistent with the Lemhi Resource Management Plan dated 1987, as amended, and the Challis Resource Management Plan dated 1999. It has been determined that the lands are not needed for any Federal purpose and existing resource values will not be affected by the disposal of the parcels of public land. Upon publication of this notice in the Federal Register, the lands described above will be segregated from all other forms of appropriation under the public land laws, including the general mining laws, except for lease or conveyance under the R&PP Act, and leasing under the mineral leasing laws.

The conveyance, when issued for each parcel, will be subject to the provisions of the R&PP Act and applicable regulation of the Secretary of the Interior, and will be subject to the following terms, conditions, and reservations:

1. A reservation of a right-of-way thereon for ditches and canals constructed by the authority of the United States pursuant to the Act of August 30, 1890 (26 Stat. 391; 43 U.S.C. 945).

2. All minerals shall be reserved to the United States, together with the right to prospect for, mine and remove such deposits from the same under applicable law and such regulations as the Secretary of the Interior may prescribe, including all necessary access and exit rights.

3. The conveyance will be subject to valid existing rights of record, including, but not limited to, those documented on the BLM public land records at the time of conveyance of the lands.

4. These parcels are subject to the requirements of section 120(h) of the Comprehensive Environmental Response, Compensation and Liabilities Act, 42 U.S.C. 9620(h) (CERCLA), as amended by the Superfund Amendments and Reauthorization Act of 1988, Sat. 1670. The patentee, its successors or assigns, by accepting a patent, agrees to indemnify, defend, and hold harmless the United States, its officers, agents, representatives, and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, state, and local laws and regulations that are now, or may in the future become, applicable to the real property and/or applicable to the use, occupancy, and/or operations thereon; (2) Judgments, claims, or demands of any kind assessed against the United States; (3) Costs, expenses, or damages of any kind incurred by the United States; (4) Releases or threatened releases of solid or hazardous waste(s) and/or hazardous substances(s), pollutant(s), or contaminants(s), and/or petroleum product(s) or derivative(s) of a petroleum product, as defined by Federal or state environmental laws; of, on, into, or under land, property, and other interests of the United States; (5) other activities by which solid or hazardous substance(s) or waste(s), pollutant(s) or contaminant(s), or petroleum product(s) or derivative(s) of a petroleum product as defined by Federal or state environmental laws are generated, stored, used, or otherwise disposed of on the patented real property, and any cleanup response, remedial action, or other actions related in any manner to the said solid or hazardous substance(s) or waste(s) or contaminant(s), or petroleum product(s) or derivative(s) of a petroleum product as defined by Federal or state laws. Patentee shall stipulate that it will be solely responsible for compliance with all applicable Federal, state, and local environmental laws and regulatory provisions, throughout the life of the facility, including any closure and/or post-closure requirements that may be imposed with respect to any physical plant and or facility upon the real property under any Federal, state, or local environmental laws or regulatory provisions. In the case of a patent being issued, this covenant shall be construed as running with patented real property and may be enforced by the United States in a court of competent jurisdiction.

Terms, conditions, and reservations specific to each parcel as follows will also be included in the conveyance document:

IDI-33660—Pahsimeroi Dumpster Site

1. IDI-20154—Those rights held by Lemhi County, its successors or assigns, for an existing road exercised under RS2477 and noted under BLM Serial Number IDI-20154.

2. IDI-6611—Those rights held by Idaho Department of Transportation, its successors or assigns, for an existing road right-of-way, 200 feet wide.

IDI-32611—Baker Dumpster Site

1. IDI-20154—Those rights held by Lemhi County, its successors or assigns, for an existing road exercised under RS2477 and noted under BLM Serial Number IDI-20154.

2. IDI-35820—Those rights held by Century Telephone Inc. for a buried telephone line right-of-way.

Continued use of the land by valid right-of-way holders is proper subject to the terms and conditions of the grant.

Classification Comments: Interested parties may submit comments involving the suitability of the lands for the purposes described above. Comments on the classification are restricted:

(1) Whether the land is physically suited for the proposal;

(2) whether the use will maximize the future use or uses of the land;

(3) whether the use is consistent with local planning and zoning; and

(4) if the use is consistent with State and Federal programs.

Application Comments: Interested parties may submit comments regarding the specific use proposed in the application and plan of development, whether the BLM followed proper administrative procedures in reaching the decision, or any other factor not directly related to the suitability of the land for a dumpster site or public rifle range as previously described. Before including your address, phone number, e-mail address, or other personal identifying information in your comment, be advised that your entire comment—including your personal identifying information—may be made publicly available at any time. While you can ask us in your comment to withhold from public review your personal identifying information. We cannot guarantee that we will be able to do so. Any adverse comments will be reviewed by the BLM, Idaho State Director who may sustain, vacate, or modify this realty action. In the absence of any adverse comments, the classification will become effective on May 2, 2008. The lands will not be offered for conveyance until after the classification becomes effective.

Authority: 43 Code of Federal Regulations (CFR) 2741.

Joe J. Kraayenbrink,
District Manager, Idaho Falls District.

[FR Doc. E8-3988 Filed 2-29-08; 8:45 am]

BILLING CODE 4310-GG-P